DEPARTMENT OF LABOR

Employment and Training Administration

[TA-W-37,000 and NAFTA-3402]

Barry Callebaut, USA, Incorporated Van Leer Division Jersey City, New Jersey; Notice of Affirmative Determination Regarding Application for Reconsideration

By letter of January 13, 2000, petitioners requested administrative reconsideration of the Department of Labor's Notice of Negative Determination Regarding Eligibility to Apply for Worker Adjustment Assistance and North American Free Trade Agreement, Transitional Adjustment Assistance, applicable to workers and former workers of the subject firm. The denial notices were signed on November 15, 1999. The notice for TA-W-37,000 was published in the Federal Register on December 28, 1999 (64 FR 72691). The notice for NAFTA-3402 will soon be published in the Federal Register.

The petitioners present information regarding company imports of chocolate products and related ingredients and a shift in production of certain articles from Jersey City, New Jersey to Canada.

Conclusion

After careful review of the application, I conclude that the claim is of sufficient weight to justify reconsideration of the Department of Labor's prior decision. The application is, therefore, granted.

Signed at Washington, DC this 24th day of January 2000.
Grant D. Beale,
Program Manager, Office of Trade Adjustment Assistance.

[FR Doc. 00-2497 Filed 2-3-00; 8:45 am]

BILLING CODE 4510-30-M